SECURITIES AND EXCHANGE COMMISSION

[Release No. 34-55709; File No. SR-OCC-2007-05]

Self-Regulatory Organizations; The Options Clearing Corporation; Notice of Filing and Immediate Effectiveness of a Proposed Rule Change Relating to OCC's Clearing Fee Schedule

May 4, 2007.

Pursuant to Section 19(b)(1) of the Securities Exchange Act of 1934 (“Act”),¹ notice is hereby given that on April 11, 2007, The Options Clearing Corporation (“OCC”) filed with the Securities and Exchange Commission (“Commission”) the proposed rule change as described in Items I, II, and III below, which items have been prepared primarily by OCC. The Commission is publishing this notice to solicit comments on the proposed rule change from interested persons.

¹ 15 U.S.C. 78s(b)(1).

I. Self-Regulatory Organization's Statement of the Terms of Substance of the Proposed Rule Change

The proposed rule change would (i) make permanent the current discounted clearing fee schedule for specified contracts, (ii) further discount the newly adopted clearing fee schedule, and (iii) modify the new product clearing fee schedule, with all changes being effective May 1, 2007.

II. Self-Regulatory Organization's Statement of the Purpose of, and Statutory Basis for, the Proposed Rule Change

In its filing with the Commission, OCC included statements concerning the purpose of and basis for the proposed rule change and discussed any comments it received on the proposed rule change. The text of these statements may be examined at the places specified in Item IV below. OCC has prepared summaries, set forth in sections (A), (B), and (C) below, of the most significant aspects of such statements.²

² The Commission has modified parts of these statements.

(A) Self-Regulatory Organization's Statement of the Purpose of, and Statutory Basis for, the Proposed Rule Change

The purpose of the proposed rule change is to amend OCC's standard clearing and new products fee schedules, effective May 1, 2007, as described below. First, OCC is making permanent the current discounted clearing fee schedule for (i) securities options and (ii) security futures where at least one side of the trade is cleared by an OCC clearing member. Second, OCC is discounting the newly adopted permanent clearing fee schedule until further action by the OCC Board of Directors. Third, OCC is modifying its new product fee schedule to reflect the foregoing clearing fee changes and to make it easier to administer. The following charts summarize the changes:

Contracts/trade | Current permanent standard fee schedule, effective April 1, 2004 | New permanent standard fee schedule, effective May 1, 2007* | Discounted standard fee schedule, effective May 1, 2007
1-500 | $0.0825/contract | $0.05/contract | $0.035/contract.
501-1,000 | $0.0675/contract | $0.04/contract | $0.028/contract.
1,001-2,000 | $0.0575/contract | $0.03/contract | $0.021/contract.
>2,000 | $110.00 (capped) | $55.00 (capped) | $35.00 (capped).
*Clearing fees are currently charged at these rates as discounted fees. See File No. SR-OCC-2006-14.

New product fee schedule, effective July 1, 2005 | New product fee schedule, effective May 1, 2007
First calendar month traded: $ .00. | From first day of listing through the end of the following calendar month.
Second calendar month traded: $0.00. Cleared trades w/contracts of: 1-4,400—$ .01. Thereafter reverts to clearing fees specified in the current clearing fee schedule.
Greater than 4,400—$ 40.00 per trade
Third calendar month traded: |
Cleared trades w/contracts of: 1-2,200—$ .02. |
Greater than 2,200—$ 40.00 per trade. |
Fourth calendar month traded: |
Reverts to current clearing fees. |

The foregoing reductions in OCC's clearing fees reflect the strong contract volume experienced by OCC this year to date. OCC believes that these fee changes will financially benefit clearing members and other market participants without adversely affecting OCC's ability to meet its expenses and maintain an acceptable level of retained earnings. The discounted clearing fees will remain in effect until further action by OCC's Board of Directors.

The proposed rule change is consistent with Section 17A of the Act because it benefits clearing members and other market participants by reducing and discounting clearing fees and allocating them in a fair and equitable manner. The proposed rule change is not inconsistent with the existing rules of OCC, including any other rules proposed to be amended.

(B) Self-Regulatory Organization's Statement on Burden on Competition

OCC does not believe that the proposed rule change would impose any burden on competition.

(C) Self-Regulatory Organization's Statement on Comments on the Proposed Rule Change Received From Members, Participants, or Others

Written comments were not and are not intended to be solicited with respect to the proposed rule change and none have been received.

III. Date of Effectiveness of the Proposed Rule Change and Timing for Commission Action

Because the foregoing rule change changes fees charged clearing members by OCC, it has become effective pursuant to Section 19(b)(3)(A)(ii) of the Act³ and Rule 19b-4(f)(2)⁴ thereunder. At any time within sixty days of the filing of the proposed rule change, the Commission may summarily abrogate such rule change if it appears to the Commission that such action is necessary or appropriate in the public interest, for the protection of investors, or otherwise in furtherance of the purposes of the Act.

³ 15 U.S.C. 78s(b)(3)(A)(ii).

⁴ 17 CFR 240.19b-4(f)(2).

IV. Solicitation of Comments

Interested persons are invited to submit written data, views, and arguments concerning the foregoing, including whether the proposed rule change is consistent with the Act. Comments may be submitted by any of the following methods:

Electronic Comments

• Use the Commission's Internet comment form (http://www.sec.gov/rules/sro.shtml) or

• Send an e-mail to rule-comments@sec.gov. Please include File Number SR-OCC-2007-05 on the subject line.

Paper Comments

• Send paper comments in triplicate to Nancy M. Morris, Secretary, Securities and Exchange Commission, 100 F Street, NE, Washington, DC 20549-1090.

All submissions should refer to File Number SR-OCC-2007-05. This file number should be included on the subject line if e-mail is used. To help the Commission process and review your comments more efficiently, please use only one method. The Commission will post all comments on the Commission's Internet Web site (http://www.sec.gov/rules/sro.shtml). Copies of the submission, all subsequent amendments, all written statements with respect to the proposed rule change that are filed with the Commission, and all written communications relating to the proposed rule change between the Commission and any person, other than those that may be withheld from the public in accordance with the provisions of 5 U.S.C. 552, will be available for inspection and copying in the Commission's Public Reference Section, 100 F Street, NE., Washington, DC 20549. Copies of such filing also will be available for inspection and copying at the principal office of OCC and on OCC's Web site at http://www.optionsclearing.com.

All comments received will be posted without change; the Commission does not edit personal identifying information from submissions. You should submit only information that you wish to make available publicly. All submissions should refer to File Number SR-OCC-2007-05 and should be submitted on or before May 31, 2007.

For the Commission by the Division of Market Regulation, pursuant to delegated authority.⁵
⁵ 17 CFR 200.30-3(a)(12).
Florence E. Harmon,
Deputy Secretary.

[FR Doc. E7-8957 Filed 5-9-07; 8:45 am]

BILLING CODE 8010-01-P